DEPARTMENT OF ENERGY

10 CFR Part 431

[Docket No. EERE-2012-BT-NOA-0037]

RIN 1904-AC84

Labeling Requirements for Commercial and Industrial Equipment

AGENCY: Office of Energy Efficiency and Renewable Energy, Department of Energy.

ACTION: Request for Information (RFI).

SUMMARY: The Energy Policy and Conservation Act as amended prescribes energy conservation standards for certain commercial and industrial equipment, and requires the Department of Energy (DOE) to administer an energy conservation program for the equipment, including the development of labeling requirements. In this notice, DOE requests information from interested parties regarding the potential for establishing labeling requirements for covered commercial and industrial equipment, including information about the technical and economic feasibility of labeling such equipment, the extent to which labeling would assist consumers in making purchasing decisions, the potential for significant energy savings resulting from labeling, the potential content and format of prospective labels for each type of equipment, the ideal location of placement for any such labels, and prospective burdens on manufacturers associated with labeling of covered equipment. Additional input and suggestions relevant to labeling of commercial and industrial equipment are also welcome.

DATES: Written comments and information are requested by March 20, 2013.

ADDRESSES: Interested persons may submit comments in writing, identified by docket number EERE-2012-BT-NOA-0037, by any of the following methods:

• Federal eRulemaking Portal: www.regulations.gov Follow the instructions for submitting comments.

• Email: Labeling-RFI-2012-NOA-0037@ee.doe.gov. Include EERE-2012-BT-NOA-0037 and/or RIN 1904-AC84 in the subject line of the message.

• Mail: Ms. Brenda Edwards, U.S. Department of Energy, Building Technologies Program, Mailstop EE-2J, Request for Information for Commercial and Industrial Pumps, EERE-2012-BT-NOA-0037 and/or RIN 1904-AC84, 1000 Independence Avenue SW., Washington, DC 20585-0121. Phone: (202) 586-2945. Please submit one signed paper original.

• Hand Delivery/Courier: Ms. Brenda Edwards, U.S. Department of Energy, Building Technologies Program, Suite 600, 950 L'Enfant Plaza, SW., Washington, DC 20024. Phone: (202) 586-2945. Please submit one signed paper original.

• Instructions: All submissions received must include the agency name and docket number.

Docket: For access to the docket to read background documents or comments received, visit the U.S. Department of Energy, Resource Room of the Building Technologies Program, 950 L'Enfant Plaza, SW., Suite 600, Washington, DC, 20024, (202) 586-2945, between 9:00 a.m. and 4:00 p.m., Monday through Friday, except Federal holidays. Please call Ms. Brenda Edwards at the above telephone number for additional information regarding visiting the Resource Room.

FOR FURTHER INFORMATION CONTACT: Mr. Lucas Adin, U.S. Department of Energy, Office of Energy Efficiency and Renewable Energy, Building Technologies Program, EE-2J, 1000 Independence Avenue SW., Washington, DC 20585-0121. Telephone: (202) 287-1317. Email: Lucas.Adin@ee.doe.gov.

In the Office of General Counsel, Ms. Elizabeth Kohl, U.S. Department of Energy, Office of the General Counsel, GC-71, 1000 Independence Avenue SW., Washington, DC 20585-0121. Telephone: (202) 586-7796. Email: Elizabeth.Kohl@hq.doe.gov.

SUPPLEMENTARY INFORMATION: Title III of the Energy Policy and Conservation Act (EPCA) of 1975, as amended (42 U.S.C. 6291 et seq.), sets forth various provisions designed to improve energy efficiency. Part C of Title III includes measures to improve the energy efficiency of commercial and industrial equipment, the subject of this notice.¹ See 42 U.S.C. 6311-6316.

¹ Part C was re-designated Part A-1 on codification of the U.S. Code for editorial reasons.

Covered Equipment

EPCA defines the types of commercial and industrial equipment that are “covered equipment,” which includes the following: Electric motors and pumps; commercial HVAC and water heating equipment (small, large, and very large commercial package air conditioning and heating equipment, packaged terminal air conditioners and packaged terminal heat pumps, warm air furnaces packaged boilers, storage water heaters, instantaneous water heaters, and unfired hot water storage tanks); commercial refrigerators, freezers, and refrigerator-freezers; automatic commercial icemakers; commercial clothes washers; and walk-in coolers and walk-in freezers. (42 U.S.C. 6311(A)) The Energy Policy Act of 1992, which amended EPCA, added high-intensity discharge lamps, distribution transformers, and small electric motors as covered equipment. (42 U.S.C. 6317).

Evaluation of Labeling for Commercial and Industrial Equipment

EPCA requires DOE to prescribe labeling rules for any class of covered equipment for which DOE has prescribed test procedures under section 6314. 42 U.S.C. 6315(a). DOE cannot, however, prescribe a labeling rule unless it has determined that labeling would be technologically and economically feasible with respect to the class of covered equipment addressed by the rule, that significant energy savings would result from such labeling, and that labeling would be likely to assist consumers in making purchasing decisions. 42 U.S.C. 6315(h).

EPCA further specifies certain aspects of equipment labeling that DOE must consider in any rulemaking establishing labeling requirements for covered equipment. At a minimum, such labels must include the energy efficiency of the equipment to which the rulemaking applies, as tested under the prescribed DOE test procedure. Such rule may also require the disclosure of estimated annual operating costs and energy use determined in accordance with the prescribed DOE test procedure. In addition, the labeling rulemaking may consider the addition of other specifications for equipment labels if DOE determines that the information is likely to assist purchasers in making purchasing decisions. These specification include: Directions for the display of the label; a requirement to display on the label additional information related to energy efficiency or energy consumption, which may include instructions for maintenance and repair of the covered equipment, as necessary to provide adequate information to purchasers; and requirements that printed matter displayed or distributed with the equipment at the point of sale also include the information required by the labeling rule to be displayed on the label. 42 U.S.C. 6315(b), (c).

In addition to these general requirements, EPCA also has specific requirements that apply to any labeling rule prescribed for certain types of covered equipment. Specific requirements are established for electric motors, for which DOE has already prescribed labeling requirements, as well as for commercial HVAC and water heating equipment, commercial refrigerators, refrigerator-freezers, and freezers, automatic commercial ice makers, commercial clothes washers, and walk-in coolers and walk-in freezers. These equipment-specific provisions require that any labeling rule prescribed by DOE for covered equipment require labels to display the energy efficiency of the equipment on the permanent nameplate affixed to the product, require that the manufacturer prominently display the energy efficiency of the equipment in new equipment catalogues used to advertise the equipment, and include any other markings that DOE determines necessary solely to facilitate enforcement of the applicable energy conservation standards prescribed for the equipment. 42 U.S.C. 6315(d), (e).

To begin the process of considering labeling requirements for covered equipment, DOE is seeking information from manufacturers and other stakeholders regarding each of these items, as well as any other aspect of prospective labeling requirements that may affect equipment covered by such rules. Specific questions for stakeholders are listed in section II.2 of this notice. DOE understands that determining the specific impacts of a labeling requirement for a given type of covered equipment may be difficult in the absence of a specific proposal. In such cases, DOE requests that commenters consider, at a minimum, the prospective impacts if DOE were to prescribe labeling rules that comply with the most basic requirements set forth in 42 U.S.C. 6315. DOE is also interested in all aspects of prospective labeling requirements, including benefits that may be realized from extending requirements beyond the minimum EPCA requirements, with the understanding that such estimates may be speculative.

Interested parties will also have further opportunities to provide input on any specific labeling regulations proposed by DOE. EPCA requires that DOE provide a public comment period of at least 45 days and allow interested parties to present oral and written data, views and arguments on any proposed labeling rule. 42 U.S.C. 6315(g).

Other Regulatory Programs

The Federal Trade Commission (FTC) prescribes labeling requirements for certain covered consumer products. 42 U.S.C. 6294. While the FTC does not have any specific obligation under EPCA to set labeling requirements for covered commercial and industrial equipment, in the absence of a labeling rule prescribed by DOE for any such equipment, the FTC would retain authority to set such requirements. 42 U.S.C. 6315(k). In addition, as required by EPCA, DOE will consult with and obtain the written views of the FTC prior to prescribing a new labeling requirement for covered equipment. 42 U.S.C. 6315(f).

The Energy Policy Act of 2005 (EPACT 2005) added provisions to Part A of EPCA related to energy conservation standards and test procedures for refrigerated beverage vending machines, illuminated exit signs, low voltage dry-type distribution transformers, traffic signal modules and pedestrian modules, and commercial prerinse spray valves (42 U.S.C. 6295(v), (w), (y), (z), and (dd)) and definitions of these products (42 U.S.C. 6291). DOE or the FTC may establish labeling requirements for these products after a test procedure has been prescribed. 42 U.S.C. 6294(a)(5). DOE also seeks comment on appropriate labeling requirements for these products in section II.2. Similarly, the Energy Independence and Security Act of 2007 (EISA) added metal halide lamp fixtures to Part A of EPCA at 42 U.S.C. 6295(hh). The FTC establishes labeling requirements for metal halide lamp fixtures. 42 U.S.C. 6294(a)(2)(C).

Compliance

Any labeling rule that DOE prescribes for covered industrial equipment would not apply to equipment manufactured before the effective date of any final rule. Compliance with any final labeling rule would not be required until 3 months following the publication of any final rule. If DOE determines that additional time is needed for compliance with the prescribed rules, the compliance date may be extended to 6 months after the date of publication. 42 U.S.C. 6315(j) and 42 U.S.C. 6315(g)(2).

Public Participation

1. Submission of Information

DOE will accept information and data in response to this Request for Information as provided in the DATES section above. Information submitted to DOE by email should be provided in WordPerfect, Microsoft Word, PDF, or text file format. Those responding should avoid the use of special characters or any form of encryption, and wherever possible, comments should include the electronic signature of the author. Comments submitted to DOE by mail or hand delivery/courier should include one signed original paper copy. No telefacsimiles will be accepted. Comments submitted in response to this notice will become a matter of public record and will be made publicly available.

2. Issues on Which DOE Seeks Information

DOE welcomes comments on issues related to the labeling of commercial and industrial products. DOE is particularly interested in receiving comments from interested parties on the following issues:

(1) The economic and technological feasibility of prospective labeling requirements for each type of covered equipment;

(2) The extent to which labeling requirements for each type of covered equipment would assist consumers in making purchasing decisions;

(3) The likelihood that labeling requirements prescribed for each type of covered equipment would result in additional energy savings and the significance of any such prospective energy savings;

(4) Information that DOE should consider requiring for display on a prospective label for each type of covered equipment addressed in this notice, beyond that which would be required in order to meet the minimum requirements of EPCA;

(5) Factors that DOE should consider regarding size, format, and placement of labels for each type of covered equipment;

(6) Factors that DOE should consider regarding enforcement of any prospective labeling requirements for each type of covered equipment.

(7) Appropriate labeling requirements for refrigerated beverage vending machines, illuminated exit signs, low voltage dry-type distribution transformers, traffic signal modules and pedestrian modules, and commercial prerinse spray valves.

Issued in Washington, DC, December 14, 2012.
Kathleen B. Hogan,
Deputy Assistant Secretary, Energy Efficiency and Renewable Energy.

[FR Doc. 2012-30681 Filed 12-19-12; 8:45 am]

BILLING CODE 6450-01-P